DEPARTMENT OF THE INTERIOR

Bureau of Land Management

[20X.LLAK930100 L510100000.ER0000]

Notice of Availability of the Ambler Mining District Industrial Access Road Final Environmental Impact Statement, Alaska

AGENCY: Bureau of Land Management, Interior.

ACTION: Notice of availability.

SUMMARY: In accordance with the National Environmental Policy Act of 1969, as amended, and the Federal Land Policy and Management Act of 1976, as amended, the Bureau of Land Management (BLM), Central Yukon Field Office, Fairbanks, Alaska, is issuing the Final Environmental Impact Statement (EIS) for the Ambler Mining District Industrial Access Road Project.

DATES: The BLM will issue a Record of Decision for the project no earlier than 30 days after the date that the Environmental Protection Agency (EPA) publishes its Notice of Availability (NOA) of the Final EIS in the Federal Register. The EPA publishes its NOAs in the Federal Register weekly, usually on Fridays.

ADDRESSES: To access the Final EIS or to request an electronic or paper copy, please reach out to:

• Website: http://www.blm.gov/alaska.

• Email: tmcmastergoering@blm.gov.

• Mail: BLM Alaska State Office, 222 West 7th Avenue #13, Anchorage, Alaska 99513.

FOR FURTHER INFORMATION CONTACT: Tina McMaster-Goering, Ambler Road EIS Project Manager, telephone: 907-271-1310; email: tmcmastergoering@blm.gov. Persons who use a telecommunications device for the deaf (TDD) may call the Federal Relay Service (FRS) at 1-800-877-8339 to contact Ms. McMaster-Goering during normal business hours. The FRS is available 24 hours a day, 7 days a week, to leave a message or question. You will receive a reply during normal business hours.

SUPPLEMENTARY INFORMATION: The Ambler Road Final EIS analyzes an application for a Right of Way grant for year-round industrial access road in support of mining exploration and development; and the construction, operation, and maintenance of facilities associated with that access. The road would run from the existing Dalton Highway to the Ambler Mining District. The Alaska Industrial Development and Export Authority (AIDEA), a public corporation of the State of Alaska, is the applicant.

The AIDEA estimates the creation of an annual average of 486 jobs during road construction and up to 68 full-time jobs over the life of the road.

The Final EIS discloses potential effects associated with the construction, operation, maintenance, and reclamation of the road. The analysis of the preferred alternative (Alternative A) and other alternatives was conducted based on public input gathered from the 11-month scoping period and a 60-day comment period on the Draft EIS.

In September and October of 2019, the BLM held public comment meetings on the Draft EIS in 18 affected communities as well as Anchorage, Fairbanks, and Washington, DC. Modifications to the Draft EIS were made based on public comment, cooperating agency coordination, tribal and Alaska Native Claims Settlement Act corporation consultation, and the BLM's internal review.

(Authority: 40 CFR 1506.6(b))
Chad B. Padgett,
State Director, Alaska.

[FR Doc. 2020-06428 Filed 3-26-20; 8:45 am]

BILLING CODE 4310-JA-P